DEPARTMENT OF THE INTERIOR

Bureau of Land Management

[F-14834-A, F-14834-B, F-14834-B2; AK-964-1410-KC-P]

Alaska Native Claims Selection

AGENCY: Bureau of Land Management, Interior.

ACTION: Notice of decision approving lands for conveyance.

SUMMARY: As required by 43 CFR 2650.7(d), notice is hereby given that an appealable decision approving the surface estate for conveyance pursuant to the Alaska Native Claims Settlement Act will be issued to Atqasuk Corporation. The lands are in the vicinity of Atqasuk, Alaska, and are located in:

Umiat Meridian, Alaska

T. 13 N., R. 19 W.,

Secs. 6, 7, 18, and 19;

Sec. 30.

Containing approximately 2,857 acres.

T. 14 N., R. 19 W.,

Secs. 19, 20, and 30;

Sec. 31.

Containing approximately 1,740 acres.

T. 13 N., R. 20 W.,

Secs. 1, 2, 11, and 12;

Secs. 13, 14, and 23;

Secs. 24, 25, and 26;

Sec. 31.

Containing approximately 5,586 acres.

T. 14 N., R. 20 W.,

Secs. 25 to 29, inclusive;

Secs. 32 to 36, inclusive.

Containing approximately 5,959 acres.

T. 12 N., R. 21 W.,

Secs. 2 and 11.

Containing approximately 909 acres.

Aggregating approximately 17,051 acres.

These lands lie entirely within National Petroleum Reserve—Alaska, established by the Naval Petroleum Production Act of 1976. The subsurface estate will be reserved to the United States in the conveyance to Atqasuk Corporation. Notice of the decision will also be published four times in the Anchorage Daily News.

DATES: The time limits for filing an appeal are:

1. Any party claiming a property interest which is adversely affected by the decision shall have until July 18, 2008 to file an appeal.

2. Parties receiving service of the decision by certified mail shall have 30 days from the date of receipt to file an appeal.

Parties who do not file an appeal in accordance with the requirements of 43 CFR Part 4, Subpart E, shall be deemed to have waived their rights.

ADDRESSES: A copy of the decision may be obtained from: Bureau of Land Management, Alaska State Office, 222 West Seventh Avenue, #13, Anchorage, Alaska 99513-7504.

FOR FURTHER INFORMATION, CONTACT: The Bureau of Land Management by phone at 907-271-5960, or by e-mail at ak.blm.conveyance@ak.blm.gov. Persons who use a telecommunication device (TTD) may call the Federal Information Relay Service (FIRS) at 1-800-877-8330, 24 hours a day, seven days a week, to contact the Bureau of Land Management.

Hillary Woods,
Land Law Examiner, Land Transfer Adjudication I.

[FR Doc. E8-13718 Filed 6-17-08; 8:45 am]

BILLING CODE 4310-JA-P